DEPARTMENT OF HOMELAND SECURITY

Transportation Security Administration

Extension of Agency Information Collection Activity Under OMB Review: Speaker Request Form

AGENCY: Transportation Security Administration, DHS.

ACTION: 30-Day notice.

SUMMARY: This notice announces that the Transportation Security Administration (TSA) has forwarded the Information Collection Request (ICR), Office of Management and Budget (OMB) control number 1652-0075, abstracted below to OMB for review and approval under the Paperwork Reduction Act (PRA). The ICR describes the nature of the information collection and its expected burden. The collection involves point of contact information for the person/organization requesting a TSA speaker; logistical information for that speaking engagement; and context for the request to determine the audience reach, any ethical concerns, and possible promotion of the speaking engagement.

DATES: Send your comments by May 23, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on December 27, 2024, 89 FR 105620. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Speaker Request Form.

Type of Request: Extension.

OMB Control Number: 1652-0075.

Form(s): Speaker Request Form.

Affected Public: The general public requesting a TSA speaker.

Abstract: To respond to public speaking invitations, TSA has created the Speaker Request Form, which collects information on the requestor and the event a speaker would attend. The form requests information related to the organization and the event, such as the event sponsor, event details, and point of contact information.

TSA is submitting the form as a Common Form to permit Federal agency users beyond the agency that created the form (e.g., Department of Homeland Security or U.S. Office of Personnel Management) to streamline the information collection process in coordination with OMB.

Estimated Annual Number of Respondents: 300.

Estimated Annual Burden Hours: 50.

Dated: April 18, 2025.
Christina A. Walsh,
TSA Paperwork Reduction Act Officer, Information Technology, Transportation Security Administration.

[FR Doc. 2025-06959 Filed 4-22-25; 8:45 am]

BILLING CODE 9110-05-P